ENVIRONMENTAL PROTECTION AGENCY

[ER-FRL-9018-7]

Environmental Impact Statements; Notice of Availability

AGENCY: Office of Federal Activities, General Information (202) 564-7146 or http://www.epa.gov/compliance/nepa/.

Weekly receipt of Environmental Impact Statements

Filed 12/22/2014 through 12/24/2014

Pursuant to 40 CFR 1506.9.

Notice

Section 309(a) of the Clean Air Act requires that EPA make public its comments on EISs issued by other Federal agencies. EPA's comment letters on EISs are available at: http://www.epa.gov/compliance/nepa/eisdata.html.

EIS No. 20140380, Draft EIS, USACE, CA, Sacramento River Bank Protection Project, Comment Period Ends: 02/27/2015, Contact: Brian Mulvey 916-557-7660.

EIS No. 20140381, Draft Supplement, BLM, WA, Vantage to Pomona Heights 230 kV Transmission Line Project, Comment Period Ends: 02/17/2015, Contact: Roberta Estes 541-416-6728.

EIS No. 20140382, Final EIS, USACE, LA, West Shore Lake Pontchartrain Hurricane and Storm Damage Risk Reduction, Review Period Ends: 02/02/2015, Contact: Sandra Stiles 504-862-1583.

EIS No. 20140383, Draft EIS, NRC, IL, Plant-Specific Supplement 54, License Renewal of Nuclear Plants Regarding Byron Station, Units 1 and 2, Comment Period Ends: 02/20/2015, Contact: Lois M. James 301-415-3306.

Amended Notices

EIS No. 20140326, Draft EIS, FHWA, WI, I-94 East-West Corridor, Comment Period Ends: 01/27/2015, Contact: George Poirier 608-829-7500 Revision to FR Notice Published 11/14/2014; Extending Comment Period from 01/13/2015 to 01/27/2015.

EIS No. 20140328, Draft Supplement, USFS, NM, North Fork Wells of Eagle Creek, Comment Period Ends: 01/28/2015, Contact: David M. Warnack 575-257-4095.

Revision to FR Notice Published 12/12/2014; Extending Comment Period from 01/13/2015 to 01/28/2015.

Dated: December 29, 2014.
Cliff Rader,
Director, NEPA Compliance Division, Office of Federal Activities.

[FR Doc. 2014-30782 Filed 12-31-14; 8:45 am]

BILLING CODE 6560-50-P